DEPARTMENT OF ENERGY

Federal Energy Regulatory Commission

[Docket No. CP17-458-000]

Midship Pipeline Company, LLC; Notice of Request for Extension of Time

Take notice that on August 10, 2020, Midship Pipeline Company, LLC (Midship) requested that the Federal Energy Regulatory Commission (Commission) grant an extension of time, until December 31, 2022, to complete construction and place into service three delayed compressor units for its Midship Pipeline Project, as originally authorized in the August 13, 2018 Order Issuing Certificate (August 13 Order).¹ The August 13 Order (as amended) ² required the applicants to complete construction and make the facilities available for service within two years of the original Order date.

¹ Midship Pipeline Company, LLC, 164 FERC ¶ 61,103 (2018).

² Midship Pipeline Company, LLC, 166 FERC ¶ 62,039 (2019); Midship Pipeline Company, LLC, 168 FERC ¶ 61,147 (2019); Midship Pipeline Company, LLC, 170 FERC ¶ 61,137 (2020).

The overall project is designed to provide up to 1,440 million standard cubic feet per day (MMcf/d) of firm transportation capacity from the South Central Oklahoma Oil Province and the Sooner Trend Anadarko Basin Canadian and Kingfisher gas plays in the Anadarko Basin in Oklahoma to existing natural gas pipelines near Bennington, Oklahoma, for subsequent transport to Gulf Coast and Southeast markets. As authorized, the project includes an approximately 200-mile-long mainline pipeline in Oklahoma; three mainline gas-fired turbine compressor stations (Calumet, Tatums and Bennington), each of which included three compressor units; metering and regulation stations; appurtenant facilities; and two lateral pipelines, the Chisholm and Velma Laterals.

In its request, Midship states that it has constructed all facilities authorized by the Certificate, except for one compressor unit at each of the Calumet, Tatums, and Bennington compressor stations.

Midship also states that, due to delays in the commercialization of the project, additional time is now required in order to complete the construction of the remaining authorized project facilities.

This notice establishes a 15-calendar day intervention and comment period deadline. Any person wishing to comment on the applicant's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).³

³ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act.⁷ At the time a pipeline requests an extension of time, orders on certificates of public convenience and necessity are final and the Commission will not re-litigate their issuance.⁸ The OEP Director, or his or her designee, will act on all of those extension requests that are uncontested.

⁴ Contested proceedings are those where an intervenor disputes any material issue of the filing. 18 CFR 385.2201(c)(1) (2019).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Comment Date: 5:00 p.m. Eastern Time on September 1, 2020.

Dated: August 17, 2020.
Kimberly D. Bose,
Secretary.

[FR Doc. 2020-18582 Filed 8-24-20; 8:45 am]

BILLING CODE 6717-01-P